DEPARTMENT OF JUSTICE

Office of Justice Programs

[OJP(OJP)-1362]

Meeting of the Global Justice Information Network Federal Advisory Committee

AGENCY: Office of Justice Programs (OJP), Bureau of Justice Assistance (BJA), Justice.

ACTION: Notice of meeting.

SUMMARY: Announcement of a meeting of the Global Justice Information Network (Global) Federal Advisory Committee (GAC) to discuss the Global Initiative, as described in Initiative A07 “Access America: Re-Engineering Through Information Technology.”

DATES: The meeting will take place on Tuesday, October 15, 2002, from 9 a.m. to 5:30 p.m. E.D.T.

ADDRESSES: The meeting will take place at the J.W. Marriott Hotel, 1331 Pennsylvania Avenue, NW., Washington, DC 20004; Phone: (202) 393-2000. All attendees will be required to sign in at the meeting registration desk. Please bring photo identification and allow extra time prior to the meeting.

FOR FURTHER INFORMATION CONTACT: This meeting is open to the public. However, due to security measures, members of the public who wish to attend the meeting must register with Mr. Patrick McCreary, Global Designated Federal Employee (DFE), at least (7) days in advance of the meeting. Access to the meeting will not be allowed without registration.

Mr. McCreary may be contacted as follows: Address: Patrick McCreary—Global DFE, Bureau of Justice Assistance, Office of Justice Programs, 810 7th Street, NW., Fourth Floor, Washington, DC 20531; Phone: (202) 616-0532 (Note: this not a toll free number); e-mail: mccrearj@ojp.usdoj.gov.

Anyone requiring special accommodations should contact Mr. McCreary at least seven (7) days in advance of the meeting.

SUPPLEMENTARY INFORMATION:

Authority

The GAC was established pursuant to section 10(a)(2) of the Federal Advisory Committee Act (Public Law 92-463), as amended.

Purpose

The GAC will act as the focal point for justice information systems integration activities in order to facilitate the coordination of technical, funding, and legislative strategies in support of the Administration's justice priorities.

The GAC will guide and monitor the development of the Global information sharing concept. It will advise the Assistant Attorney General, OJP; the Attorney General; the President (through the Attorney General); and local, state, tribal, and federal policymakers in the executive, legislative, and judicial branches. The GAC will also advocate strategies for accomplishing a Global information sharing capability.

This meeting will be open to the public and registrations will be accepted on a space available basis. Interested persons whose registrations have been accepted may be permitted to participate in the discussions at the discretion of the meeting chairman and with the approval of the Designated Federal Employee (DFE). Further information about this meeting can be obtained from Patrick McCreary, DFE, at (202) 616-0532.

Dated: September 5, 2002.
Patrick McCreary,
Global DFE, Bureau of Justice Assistance, Office of Justice Programs.

[FR Doc. 02-22954 Filed 9-9-02; 8:45 am]

BILLING CODE 4410-18-P